DEPARTMENT OF TRANSPORTATION

Federal Motor Carrier Safety Administration

Sunshine Act Meetings; Unified Carrier Registration Plan Board of Directors

AGENCY: Federal Motor Carrier Safety Administration (FMCSA), DOT.

Time And Date: July 23, 2007, 1 p.m. to 5 p.m., and July 24, 2007, 8 a.m. to 12 p.m., Central Daylight Time.

Place: This meeting will take place at the offices of the Property Casualty Insurers Association of America, 2600 S. River Road, Room 400, Des Plaines, IL 60018.

Status: Open to the public.

Matters To Be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Dated: June 25, 2007.
Robert W. Miller,
Acting Associate Administrator, for Enforcement and Program Delivery.

[FR Doc. 07-3197 Filed 6-26-07; 3:24 pm]

BILLING CODE 4910-EX-P